INTERNATIONAL TRADE COMMISSION

[USITC SE-16-006]

Government in the Sunshine Act Meeting Notice

AGENCY HOLDING THE MEETING: United States International Trade Commission.

TIME AND DATE: March 4, 2016 at 11:00 a.m.

PLACE: Room 101, 500 E Street SW., Washington, DC 20436, Telephone: (202) 205-2000.

STATUS: Open to the public.

MATTERS TO BE CONSIDERED: 1. Agendas for future meetings: None.

2. Minutes.

3. Ratification List.

4. Vote in Inv. Nos. 701-TA-555 and 731-TA-1310 (Preliminary) (Certain Amorphous Silica Fabric from China). The Commission is currently scheduled to complete and file its determinations on March 7, 2016; views of the Commission are currently scheduled to be completed and filed on March 14, 2016.

5. Outstanding action jackets: None.

In accordance with Commission policy, subject matter listed above, not disposed of at the scheduled meeting, may be carried over to the agenda of the following meeting.

By order of the Commission.
Dated: February 22, 2016.
William R. Bishop,
Supervisory Hearings and Information Officer.

[FR Doc. 2016-04122 Filed 2-23-16; 11:15 am]

BILLING CODE 7020-02-P